SURFACE TRANSPORTATION BOARD

[Docket No. FD 36469]

Armstrong Hospitality Group, Ltd., Invictus Maneo Ltd., Oceaneer Investments Ltd., No. 245 Dynamic Endeavors Inc., The PRBA Alter Ego Trust, and Peter R.B. Armstrong—Continuancein Control—American Rocky Mountaineer LLC

Armstrong Hospitality Group, Ltd., Invictus Maneo Ltd., Oceaneer Investments Ltd., No. 245 Dynamic Endeavors Inc., The PRBA Alter Ego Trust, and Peter R.B. Armstrong, (collectively, Armstrong Group), all noncarriers, have filed a verified notice of exemption pursuant to 49 CFR 1180.2(d)(2) to continue in control of American Rocky Mountaineer LLC (American Rocky Mountaineer), upon American Rocky Mountaineer's becoming a Class III rail carrier.¹

¹ According to the verified notice, Armstrong Group owns and controls Great Canadian Railtour Ltd. (Great Canadian Railtour), a Class III rail carrier. See Great Canadian Railtour Co. Ltd.—Pet. for Exemption from 49 U.S.C. Subtitle IV, FD 35851 (STB served June 3, 2015). The verified notice states that Armstrong Hospitality Group, Ltd., will control the railroads, and is itself controlled by Invictus Maneo Ltd., which is controlled by Oceaneer Investments Ltd., which is controlled by No. 245 Dynamic Endeavors Inc., which is controlled by the PRBA Alter Ego Trust, which is controlled by Peter R.B. Armstrong.

This transaction is related to a concurrently filed petition for exemption by American Rocky Mountaineer in American Rocky Mountaineer, LLC—Petition for Exemption from 49 U.S.C. Subtitle IV, Docket No. FD 36468. In that docket, American Rocky Mountaineer is seeking an exemption from most of the provisions of 49 U.S.C. Subtitle IV, with respect to its proposed operation of passenger rail services between Moab, Utah, and Denver, Colo., on lines of Union Pacific Railroad Company.

The exemption will become effective on March 5, 2021 (30 days after the verified notice of exemption was filed). The verified notice states that the control exemption will be utilized when American Rocky Mountaineer becomes a rail carrier, subject to Board approval of the petition for exemption filed in Docket No. FD 36468.

Armstrong Group certifies that: (1) The lines of railroad on which American Rocky Mountaineer will operate will not connect with the rail lines operated by Great Canadian Railtour; ² (2) the continuance in control is not part of a series of anticipated transactions that would result in a connection between lines operated or to be operated by American Rocky Mountaineer or Great Canadian Railtour in the United States; and (3) no Class I carrier is involved in the transaction. Therefore, the transaction is exempt from the prior approval requirements of 49 U.S.C. 11323. See 49 CFR 1180.2(d)(2).

² The verified notice states that Great Canadian Railtour is authorized to operate in Washington but has not operated in the United States since 2019 and has no present plans to operate in the United States.

Under 49 U.S.C. 10502(g), the Board may not use its exemption authority to relieve a rail carrier of its statutory obligation to protect the interests of its employees. However, 49 U.S.C. 11326(c) does not provide for labor protection for transactions under 49 U.S.C. 11324 and 11325 that involve only Class III carriers. Accordingly, the Board may not impose labor protective conditions here, because all the carriers involved are Class III carriers.

If the verified notice contains false or misleading information, the exemption is void ab initio. Petitions to revoke the exemption under 49 U.S.C. 10502(d) may be filed at any time. The filing of a petition to revoke will not automatically stay the effectiveness of the exemption. Petitions for stay must be filed no later than February 26, 2021 (at least seven days before the exemption becomes effective).

All pleadings, referring to Docket No. FD 36469, should be filed with the Surface Transportation Board via e-filing on the Board's website. In addition, a copy of each pleading must be served on Armstrong Group's representative, Kevin M. Sheys, Hogan Lovells US LLP, 555 13th St. NW, Washington, DC 20004.

Board decisions and notices are available at www.stb.gov.

Decided: February 16, 2021.
By the Board, Allison C. Davis, Director, Office of Proceedings.
Jeffrey Herzig,
Clearance Clerk.

[FR Doc. 2021-03417 Filed 2-18-21; 8:45 am]

BILLING CODE 4915-01-P